DEPARTMENT OF HEALTH AND HUMAN SERVICES

Administration for Children and Families

Statement of Organization, Functions, and Delegations of Authority; Administration on Developmental Disabilities

AGENCY: Administration for Children and Families, HHS.

ACTION: Notice.

SUMMARY: Statement of Organization, Functions, and Delegations of Authority. The Administration for Children and Families (ACF) has reorganized the Office of the Assistant Secretary (OAS) and the Administration on Developmental Disabilities (ADD). This reorganization realigns the President's Committee for People with Intellectual Disabilities Staff within the OAS and moves the function to ADD as a result of the Charter Amendment for PCPID governed by Public Law 92-463 signed by the Secretary, HHS, on May 9, 2011.

FOR FURTHER INFORMATION CONTACT: Sharon Lewis, Commissioner, Administration on Developmental Disabilities, 200 Independence Avenue SW., Washington, DC 20201, (202) 690-6590.

This notice amends Part K of the Statement of Organization, Functions and Delegations of Authority of the Department of Health and Human Services (HHS), Administration for Children and Families (ACF) as follows: Chapter KA, Office of the Assistant Secretary (OAS) last amended, 75 FR 60471-60473, September 30, 2010, and Chapter KC, Administration on Developmental Disabilities (ADD) last amended 75 FR 63186-63187, October 14, 2010.

I. Under Chapter, KA, Amend the Office of the Assistant Secretary as Follows

A. Delete KA.10 Organization in its entirety and replace with the following: KA.10 Organization. The Office of the Assistant Secretary for Children and Families is headed by the Assistant Secretary for Children and Families who reports directly to the Secretary and consists of:

Office of the Assistant Secretary for Children and Families (KA)

Executive Secretariat Office (KAF)

Office of Human Services Emergency Preparedness and Response (KAG)

Office of the Deputy Assistant Secretary and Inter-Departmental Liaison for Early Childhood Development (KAH)

B. Delete KA.20 Functions B in Its entirety.

II. Under Chapter, KC, Administration on Developmental Disabilities, Delete in Its Entirety and Replace With the Following

KC.00 Mission. The Administration on Developmental Disabilities (ADD) advises the Secretary, through the Assistant Secretary for Children and Families, on matters relating to individuals with developmental disabilities and their families. ADD serves as the focal point in the Department to support and encourage the provision of quality services to individuals with developmental disabilities and their families. ADD assists states, through the design and implementation of a comprehensive and continuing state plan, in increasing the independence, productivity and community inclusion of individuals with developmental disabilities. These state plans make optimal use of existing Federal and state resources for the provision of services and supports to these individuals and their families to achieve these outcomes. ADD works with the states to ensure that the rights of all individuals with developmental disabilities are protected.

ADD administers two formula grant programs, State Developmental Disabilities Councils and Protection and Advocacy Systems, and two discretionary grant programs, University Affiliated Programs and Projects of National Significance, including Family Support. These programs support the provision of services to individuals with developmental disabilities and their families. In concert with other components of ACF as well as other public, private, and voluntary sector partners, ADD develops and implements research, demonstration and evaluation strategies for discretionary funding of activities designed to improve and enrich the lives of individuals with developmental disabilities. In addition, ADD serves as a resource in the development of policies and programs to reduce or eliminate barriers experienced by individuals with developmental disabilities through the identification of promising practices and dissemination of information. ADD supports and encourages programs or services, which prevent developmental disabilities and manages initiatives involving the private and voluntary sectors that benefit individuals with developmental and other disabilities and their families.

ADD provides staff and administrative support to the President's Committee for People with Intellectual Disabilities (Committee). In order to promote full participation of people with intellectual disabilities in their communities, the Committee provides advice to the President and to the Secretary of Health and Human Services (Secretary) through the Commissioner of ADD concerning a broad range of topics relating to people with intellectual disabilities.

KC.10 Organization. The Administration on Developmental Disabilities (ADD) is headed by a Commissioner who reports directly to the Assistant Secretary for Children and Families. ADD consists of:

Office of the Commissioner (KCA)

President's Committee for People with Intellectual Disabilities (KCA1)

Office of Program Support (KCB)

Office of Innovation (KCC)

KC.20 Functions. A. The Office of the Commissioner provides executive leadership and management strategies for all components of the Administration on Developmental Disabilities (ADD), and serves as the principal advisor to the Assistant Secretary for Children and Families, the Secretary, and other elements of the Department for individuals with developmental disabilities and their families. The Office plans, coordinates and controls ADD policy, planning and management activities which include the development of legislative proposals, regulations and policy issuances for ADD. The Office provides executive direction, leadership, and management strategy to ADD's components and establishes goals and objectives for ADD programs. The Office manages the formulation and execution of the program and operating budgets; provides administrative, personnel and information systems support services; serves as the ADD Executive Secretariat controlling the flow of correspondence; and coordinates with appropriate ACF components in implementing administrative requirements and procedures. The Office also initiates, executes and supports the development of interagency, intergovernmental and public-private sector agreements, committees, task forces, commissions or joint-funding efforts as appropriate.

The President's Committee for People with Intellectual Disabilities (PCPID) staff provides general staff support for a Presidential-level advisory body. It coordinates all meetings and Congressional hearing arrangements; provides such advice and assistance in the areas of intellectual disabilities as the President, the Secretary or the Commissioner may request and prepares and issues reports to the President concerning intellectual disabilities. It works with other Federal, State, local governments, and private-sector organizations to achieve Presidential goals related to intellectual disabilities, and develops and disseminates information to increase public awareness of intellectual disabilities. The staff supporting PCPID reports to the Commissioner of ADD. In coordination with the ACF Office of Public Affairs, the Office of the Commissioner develops a strategy for increasing public awareness of the needs of individuals with developmental disabilities, their families, and programs designed to address them. The Deputy Commissioner assists the Commissioner in carrying out the responsibilities of the Office.

B. The Office of Program Support is responsible for the coordination, oversight, management and evaluation of the State Councils on Developmental Disabilities, the Protection and Advocacy Systems, and the University Centers for Excellence in Developmental Disabilities grant programs as authorized by the Developmental Disabilities Assistance and Bill of Rights Act (DD Act). The Office is responsible for the development of procedures and performance standards that ensure compliance with the DD Act and that improve the outcomes of the programs in increasing the independence, productivity and community inclusion of persons with developmental disabilities as well as program outreach activities. The Office conducts routine and special analyses of state plans of State Councils on Developmental Disabilities, statement of goals and objectives of State Protection and Advocacy Systems, and five-year plans of the University Centers for Excellence in Developmental Disabilities, to assure consistent application of ADD program goals and objectives.

In addition, the Office of Program Support provides program development services, develops and initiates guidelines, policy issuances and actions with team participation by other components of ADD, ACF, HHS and other government agencies to fulfill the mission and goals of the DD Act, as amended. The Office ensures the dissemination of grantee results, including project results and information produced by ADD grantees, by coordinating with the Office of Innovation and the Office of the Commissioner for information sharing.

The Office of Program Support manages cross-cutting initiatives with other components of ADD, ACF, HHS and other government agencies to promote and integrate the grant programs into cross-agency and cross-disability efforts.

C. The Office of Innovation is responsible for the coordination, oversight, management and evaluation of the Projects of National Significance, Family Support, and the Direct Support Workers grant programs as authorized by the Developmental Disabilities Assistance and Bill of Rights Act (DD Act). The Office is responsible for the development of procedures that ensure compliance with the DD Act and that improve the outcomes of the programs, grants and contracts in increasing the independence, productivity and community inclusion of persons with developmental disabilities. The Office also ensures the dissemination of project results and information produced by ADD grantees.

The Office of Innovation also administers two formula grants under the Help America Vote Act (State and Local Grants for Election Assistance for Individuals with Disabilities and Grants to Protection and Advocacy Systems) that improve accessibility for individuals with the full range of disabilities, including the blind and visually impaired, to polling places, including the path of travel, entrances, exits and voting facilities. The Office also administers a training and technical assistance grant program under the Help America Vote Act that provides technical assistance to Protection and Advocacy Systems in their mission to promote the full participation in the electoral process for individuals with the full range of disabilities, including registering to vote, casting vote, and accessing polling places.

The Office of Innovation originates and manages cross-cutting research, demonstration and evaluation initiatives with other components of ADD, ACF, HHS and other government agencies. The Office also coordinates information sharing and other activities related to national Developmental Disability program trends with other ACF programs and HHS agencies; and studies, reviews and analyzes other Federal programs providing services applicable to persons with developmental disabilities for the purpose of integrating and coordinating program efforts.

III. Continuation of Policy

Except as inconsistent with this reorganization, all statements of policy and interpretations with respect to organizational components affected by this notice within the Administration for Children and Families, heretofore issued and in effect on this date of this reorganization are continued in full force and effect.

IV. Delegation of Authority

All delegations and redelegations of authority made to officials and employees of affected organizational components will continue in them or their successors pending further redelegations, provided they are consistent with this reorganization.

V. Funds, Personnel, and Equipment

Transfer of organizations and functions affected by this reorganization shall be accompanied in each instance by direct and support funds, positions, personnel, records, equipment, supplies, and other resources.

This reorganization will be effective upon date of signature.

Dated: November 10, 2011.
George H. Sheldon,
Acting Assistant Secretary for Children and Families.

[FR Doc. 2011-30176 Filed 11-22-11; 8:45 am]

BILLING CODE 4184-06-P